DEPARTMENT OF JUSTICE

[OMB Number 1110-0048]

Agency Information Collection Activities; Proposed Collection, Comments Requested; Extension of a Currently Approved Collection; Cargo Theft Incident Report

AGENCY: Federal Bureau of Investigation, Department of Justice.

ACTION: 30-Day notice.

SUMMARY: The Department of Justice, Federal Bureau of Investigation, Criminal Justice Information Services (CJIS) Division will be submitting the following Information Collection Request to the Office of Management and Budget (OMB) for review and clearance in accordance with the established review procedures of the Paperwork Reduction Act of 1995. This proposed information collection was previously published in the Federal Register at 81 FR 47178, on July 20, 2016, allowing for a 60 day comment period.

DATES: Comments are encouraged and will be accepted for an additional 30 days until October 26, 2016.

FOR FURTHER INFORMATION CONTACT: Written comments and/or suggestions regarding the items contained in this notice, especially the estimated public burden and associated response time, should be directed to Mr. Samuel Berhanu, Unit Chief, Federal Bureau of Investigation, CJIS Division, Module E-3, 1000 Custer Hollow Road, Clarksburg, West Virginia 26306; facsimile (304) 625-3566. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of Information Collection: Extension of a currently approved collection.

(2) The Title of the Form/Collection: Cargo Theft Incident Report.

(3) The agency form number, if any, and the applicable component of the department sponsoring the collection: Form Number: 1110-0048 Sponsor: Criminal Justice Information Services Division, Federal Bureau of Investigation, Department of Justice.

(4) Affected public who will be asked or required to respond, as well as a brief abstract:Primary: City, county, state, federal, and tribal law enforcement agencies.

Abstract: This collection is needed to collect information on cargo theft incidents committed throughout the United States.

(5) An estimate of the total number of respondents and the amount of time estimated for an average respondent to respond: There are approximately 18,439 law enforcement agency respondents that submit monthly for a total of 221,268 responses with an estimated response time of 5 minutes per response.

(6) An estimate of the total public burden (in hours) associated with this collection: There are approximately 18,439 hours, annual burden, associated with this information collection.

If additional information is required contact: Jerri Murray, Department Clearance Officer, Policy and Planning Staff, Justice Management Division, United States Department of Justice, Two Constitution Square, 145 N Street NE., Room 3E-405B, Washington, DC 20530.

Dated: September 20, 2016.
Jerri Murray,
Department Clearance Officer for PRA, United States Department of Justice.

[FR Doc. 2016-23007 Filed 9-23-16; 8:45 am]

BILLING CODE 4410-02-P